DEPARTMENT OF COMMERCE

National Oceanic and Atmospheric Administration

50 CFR Part 665

[RTID 0648-XD180]

Pacific Island Fisheries; Standardized Bycatch Reporting Methodologies

AGENCY: National Marine Fisheries Service (NMFS), National Oceanic and Atmospheric Administration (NOAA), Commerce.

ACTION: Notice of Agency decision.

SUMMARY: NMFS announces the approval of Amendments to the five fishery ecosystem plans (FEP) for fisheries in the Pacific Islands Region. The FEPs are amended to update data collection mechanisms identified as standardized bycatch reporting methodologies (SBRM) and to revise descriptions of SBRM for consistency with current NMFS regulations. These Amendments ensure conformance with national guidance for compliance with the SBRM requirement in the Magnuson-Stevens Fishery Conservation and Management Act (Magnuson-Stevens Act).

DATES: The Amendments were approved on May 2, 2024.

ADDRESSES: Electronic copies of the Amendments may be obtained via the Federal e-Rulemaking Portal. Go to https://www.regulations.gov and type NOAA-NMFS-2023-0151 in the Search box (Note: copying and pasting this Docket Number directly from this document may not yield search results). Documents can be found on the Council's website at https://www.wpcouncil.org.

FOR FURTHER INFORMATION CONTACT: Brett Schumacher, Sustainable Fisheries Division, NMFS Pacific Islands Regional Office, 808-725-5176.

SUPPLEMENTARY INFORMATION:

Background

The Magnuson-Stevens Act requires that each regional fishery management council submit any fishery management plan (FMP) amendment it prepares to NMFS for review and approval, disapproval, or partial approval by the Secretary. 16 U.S.C. 1854(a). In lieu of FMPs, NMFS manages the fisheries in the Pacific Islands Region exclusive economic zone under five FEP: the American Samoa Archipelago FEP, the Hawaii Archipelago FEP, the Mariana Archipelago FEP, the Pacific Remote Island Areas (PRIA) FEP, and the Pelagic Fisheries of the Western Pacific Region FEP. The Western Pacific Fishery Management Council (Council) prepared these FEPs under the authority of the Magnuson-Stevens Act, 16 U.S.C. 1801 et seq.

Regulations governing U.S. fisheries and implementation of the FEPs appear at 50 CFR parts 600 and 665. Section 303(a)(11) of the Magnuson-Stevens Act requires that any FEP establish a SBRM to assess the amount and type of bycatch occurring in the fishery, and include conservation and management measures that, to the extent practicable, minimize bycatch and minimize the mortality of bycatch that cannot be avoided.

On January 19, 2017, NMFS published a final rule (82 FR 6317) establishing national guidance regulations at 50 CFR 600.1600 through 50 CFR 600.1610 for compliance with the Magnuson-Stevens Act SBRM requirement (SBRM regulations). The SBRM regulations define SBRM as a consistent procedure or procedures used to collect, record, and report bycatch data in a fishery managed under a FEP. The SBRM regulations require the Council to explain how each FEP's SBRM meets the purpose described in the national guidelines, based on an analysis of four considerations: (1) characteristics of bycatch in the fishery, (2) the feasibility of the reporting methodology, (3) the uncertainty of data resulting from the methodology, and (4) how the data will be used to assess the amount and type of bycatch occurring in the fishery. The Council undertook a review of its FEPs to ensure they met these requirements. That review resulted in the Amendments referenced in this notice. The Amendments update data collection mechanisms identified as SBRM as needed, and revise descriptions of SBRM in each FEP for consistency with the SBRM regulations. The Amendments are administrative in nature and would not change any fishery data collection, recording, or reporting methods or requirements, and would not implement any new regulations.

Further detail describing the Amendments was provided in the Notice of Availability (NOA) for this action and is not repeated here.

Procedural Aspects of the Amendments

The Council submitted the Amendments to the Secretary for review on February 1, 2024. On February 9, 2024, NMFS published a NOA for the Amendments, including background on the rationale for how the amendments proposed to satisfy the requirements of the SBRM regulations, and requested public review and comment (89 FR 9111). The public comment period for the subject Amendments ended on April 9, 2024. Two public comments were received pertaining to the omnibus amendment and are addressed below.

The Amendments do not add any new reporting requirements and do not change any regulatory requirements. Therefore, no proposed or final rule was prepared.

Comments and Responses

NMFS received two comments in support of the omnibus Amendment.

Authority: 16 U.S.C. 1801 et seq.

Dated: May 2, 2024.
Samuel D. Rauch, III,
Deputy Assistant Administrator for Regulatory Programs, National Marine Fisheries Service.

[FR Doc. 2024-09956 Filed 5-6-24; 8:45 am]

BILLING CODE 3510-22-P